DEPARTMENT OF DEFENSE

Office of the Secretary

Membership of the Performance Review Board

AGENCY: Office of the Secretary, DoD.

ACTION: Notice of board membership.

SUMMARY: This notice announces the appointment of the Office of the Secretary of Defense, Performance Review Board (PRB) members, to include the Joint Staff, the U.S. Mission to the North Atlantic Treaty Organization, Defense Field Activities, the U.S Court of Appeals for the Armed Forces and the following Defense Agencies: Defense Advance Research Projects Agency, Defense Contract Management Agency, Defense Commissary Agency, Defense Security Cooperation Agency, Defense Business Transformation Agency, Defense Legal Services Agency, and Pentagon Force Protection Agency. The publication of PRB membership is required by 5 U.S.C. 4314(c)(4).

The PRB shall provide fair and impartial review of Senior Executive Service and Senior Professional performance appraisals and make recommendations regarding performance ratings and performance awards to the Deputy Secretary of Defense.

DATES: Effective Date: September 21, 2010.

FOR FURTHER INFORMATION CONTACT: Michael L. Watson, Assistant Director for Executive and Political Personnel, Washington Headquarters Services, Office of the Secretary of Defense, (703) 693-8373.

SUPPLEMENTARY INFORMATION: In accordance with 5 U.S.C. 4314(c)(4), the following executives are appointed to the Office of the Secretary of Defense PRB with specific PRB panel assignments being made from this group. Executives listed will serve a one-year renewable term, effective September 21, 2010.

Office of the Secretary of Defense

Chairperson Christine Condon
PRB panel members |
John Pennett | Joseph Angello
Ronald Pontius | Leigh Bradley
Susan Yarwood | David Fisher
Joseph Bonnet III | Dennis Savage
Richard Sayre | Louis Cabrera
Allen Middleton | Charles Gunnels
Jonathan Cofer | John Shea
Elaine Simmons | Steven Austin
Timothy Harp | Richard Ginman
Paul Koffsky | Michael Knollmann
Robert Salesses | James McMichael
Lydia Moschkin | Linda Oliver
Thomas Milks | Matice Wright
Alan Shaffer | Mark Easton
Craig Glassner | Richard Genaille
Paul Kozemchak | Dan Haendel
Timothy Morgan | James Roberts
James Russell | John James Jr.
Matthew Schaffer | Maureen Viall

Dated: October 26, 2010.
Morgan F. Park,
Alternate OSD Federal Register Liaison Officer, Department of Defense.

[FR Doc. 2010-27716 Filed 11-2-10; 8:45 am]

BILLING CODE 5001-06-P